DEPARTMENT OF THE TREASURY

United States Mint

United States Mint Kids' Baseball Coin Design Challenge

ACTION: Notification of the Opening of the United States Mint Kids' Baseball Coin Design Challenge on April 11, 2013.

SUMMARY: The United States Mint announces the opening of a national kids' baseball coin design challenge on April 11, 2013, that seeks design entries from contestants age 13 years or younger on the theme, “What's Great about Baseball.” As part of the United States Mint's education initiative, this challenge is designed to provide learning materials for children, teachers, and parents on the United States Mint and its coins and medals, to build awareness of the bureau's operations and programs, and to complement the United States Mint National Baseball Hall of Fame Commemorative Coin Program Design Competition, which is a national competition for individuals 14 or older to create the design for the common obverse (front) of coins to be issued under the 2014 National Baseball Hall of Fame Commemorative Coin Program.

In creating their design entries, contestants are allowed to use any medium—acrylics, watercolor, pencil, charcoal, marker, spray paint, crayon, pastels, or digital software. All contestants will receive a letter of acknowledgement. Eligible entries will be posted on Challenge.gov, and the design with the most public votes in each age bracket (0-5 years, 6-10 years, and 11-13 years) will be considered the overall winner for that age bracket. Each of these grand prize winners will receive a National Baseball Hall of Fame $1 Silver Commemorative Coin. Each of the four runners up in each age bracket will receive a National Baseball Hall of Fame Half-Dollar Clad Commemorative Coin.

On behalf of each contestant, a parent or guardian must submit a completed application on Challenge.gov, including uploading the design entry and agreeing to the Parent/Legal Guardian Consent Form and Rights Transfer Agreement. Entries must be submitted no later than May 23, 2013, at 11:59 p.m. Eastern Daylight Time. Official rules, guidelines, and entry instructions for the United States Mint Kids' Baseball Coin Design Challenge can be found at www.usmint.gov/kids and at www.challenge.gov.

FOR FURTHER INFORMATION CONTACT: The United States Mint's Kids' Challenge Administrator is Mr. K. Jenkins, Education Coordinator. He can be reached at kidsbatterup@usmint.treas.gov.

Authority: America COMPETES Reauthorization Act of 2010, Public Law 111-358.

Dated: March 27, 2013.
David Motl,
Chief Financial Officer, United States Mint.

[FR Doc. 2013-07625 Filed 4-1-13; 8:45 am]

BILLING CODE P